DEPARTMENT OF COMMERCE

National Oceanic and Atmospheric Administration

RIN 0648-XD007

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a meeting, which is open to the public.

DATES: The HMSMT will meet Wednesday, January 22, 2014, to Friday, January 24, 2014. The meeting will begin each day at 8:30 a.m. and continue until close of business on each day. The meeting is expected to adjourn by midday on January 24.

ADDRESSES: Meeting Address: The meeting will be held in the Pacific Room, Southwest Fisheries Science Center, 8901 La Jolla Shores Dr., La Jolla, CA 92037-1509.

Council Address: Pacific Council, 7700 NE Ambassador Place, Suite 101, Portland, OR 97220-1384.

FOR FURTHER INFORMATION CONTACT: Dr. Kit Dahl, Pacific Council; telephone: (503) 820-2280.

SUPPLEMENTARY INFORMATION: The HMSMT plans to discuss the following topics:

1. Potential changes to management measures for the west coast drift gillnet fishery.

2. Developments to improve reporting of HMS fishery performance metrics out of the Pacific Fishery Information Network (PacFIN) database.

3. Updates on recent developments at the international level affecting HMS stocks of interest.

4. Potential changes to HMS management that may be implemented for the April 1, 2015—March 31, 2017 biennial period, which the Council will begin considering in June 2014.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2280 at least 5 days prior to the meeting date.

Dated: December 18, 2013.
Tracey L. Thompson,
Acting Deputy Director, Office of Sustainable Fisheries, National Marine Fisheries Service.

[FR Doc. 2013-30551 Filed 12-23-13; 8:45 am]

BILLING CODE 3510-22-P